ENVIRONMENTAL PROTECTION AGENCY

[OECA-2003-0034; FRL-7631-8]

Agency Information Collection Activities; Submission for OMB Review and Approval; Comment Request; NESHAP for Chromium Emissions From Hard and Decorative Chromium Electroplating and Chromium Anodizing, EPA ICR Number 1611.05, OMB Number 2060-0327

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on February 29, 2004. Under OMB regulations, the Agency may continue to conduct or sponsor the collection of information while this submission is pending at OMB. This ICR describes the nature of the information collection and its estimated burden and cost.

DATES: Additional comments may be submitted on or before April 5, 2004.

ADDRESSES: Submit your comments, referencing docket ID number OECA-2003-0034, to (1) EPA online using EDOCKET (our preferred method), by e-mail to docket.oeca@epa.gov, or by mail to: EPA Docket Center, Environmental Protection Agency, Enforcement and Compliance Docket and Information Center (ECDIC), Mail Code 2201T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division, Office of Compliance, Mail Code 2223A, Environmental Protection Agency, 1200 Pennsylvania Ave., NW., Washington, DC. 20460; telephone number: (202) 564-7027; fax number: (202) 564-0050; e-mail address: malave.maria@epa.gov.

SUPPLEMENTARY INFORMATION: EPA has submitted the following ICR to OMB for review and approval according to the procedures prescribed in 5 CFR 1320.12. On May 19, 2003 (68 FR 27059), EPA sought comments on this ICR pursuant to 5 CFR 1320.8(d). EPA received no comments.

EPA has established a public docket for this ICR under Docket ID Number OECA-2003-0034, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center is: (202) 566-1752. An electronic version of the public docket is available through EPA Dockets (EDOCKET) at http://www/epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NESHAP for Chromium Emissions From Hard and Decorative Chromium Electroplating and Chromium Anodizing (40 CFR part 63, subpart N), EPA ICR Number 1611.05, OMB Control Number 2060-0327.

Abstract: The national emission standards for hazardous air pollutants (NESHAP) using maximum achievable control technology (MACT) for control of chromium emissions from hard and decorative chromium electroplating and chromium anodizing tanks were proposed on December 16, 1993 and promulgated on January 25, 1995.

In general, all NESHAP-MACT standards require initial notifications, performance tests, and periodic reports. Respondents that are not required to conduct an initial performance test (i.e., decorative chromium electroplating or chromium anodizing operations that use a wetting agent and meet the surface tension limit required by the rule, and decorative chromium electroplating operations that use a trivalent chromium bath) are required to notify the Administrator of the initial compliance status of the source. Owners or operators are also required to maintain records of a source's operations including the occurrence and duration of any startup, shutdown, or malfunction in the operation of an affected facility, or any period during which the monitoring system is inoperative. The types of reports required by these standards include initial compliance status reports. Periodic reports required by this standard include annual compliance status reports for area sources and semiannual compliance status reports for major sources, unless an exceedance has occurred which requires sources to submit such reports on a more frequent basis. These notifications, reports, and records are essential in determining compliance, and are required of all sources subject to NESHAP-MACT standards.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 83 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Operators of hard chromium electroplating, decorative chromium electroplating, and chromium anodizing facilities/chromium electroplating or chromium anodizing tanks.

Estimated Number of Respondents: 5,020.

Frequency of Response: Initially, annually, semiannually, and quarterly.

Estimated Total Annual Hour Burden: 495,774 hours.

Estimated Total Annual Costs: $106,662,892 which accounts for annual O&M costs of $75,300,000 only since there are no annualized capital/startup costs associated with this ICR, as well as Respondent Labor costs of $31,362,892.

Changes in the Estimates: There is a decrease of 20,412 hours in the total estimated burden currently identified in the OMB Inventory of Approved ICR Burdens. This decrease in labor hours is the result of changing the percentage from 10 percent to 5 percent to calculate the management person-hours since we believe this is a more accurate estimate.

Dated: February 25, 2004.
Oscar Morales,
Director, Collection Strategies Division.

[FR Doc. 04-4824 Filed 3-3-04; 8:45 am]

BILLING CODE 6560-50-P